DEPARTMENT OF HOUSING AND URBAN DEVELOPMENT

[Docket No. FR-5711-N-02]

Notice of Regulatory Waiver Requests Granted for the Second Quarter of Calendar Year 2013

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2013, and ending on June 30, 2013.

FOR FURTHER INFORMATION CONTACT: For general information about this notice, contact Camille E. Acevedo, Associate General Counsel for Legislation and Regulations, Department of Housing and Urban Development, 451 7th Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2013.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2013 through June 30, 2013. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2013) before the next report is published (the third quarter of calendar year 2013), HUD will include any additional waivers granted for the second quarter in the next report.

Accordingly, information about approved waiver requests pertaining to HUD regulations is provided in the Appendix that follows this notice.

Dated: September 10, 2013.
Helen R. Kanovsky,
General Counsel.

Appendix—Listing of Waivers of Regulatory Requirements Granted by Offices of the Department of Housing and Urban Development April 1, 2013 through June 30, 2013

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Seattle Housing Authority in the State of Washington requested a waiver of HUD's environmental regulations at 24 CFR 58.22(a), for entering into a Purchase and Sale Agreement to dispose of property contained within an Environmental Impact Statement (EIS) on the Yesler Terrace Redevelopment Project prior to the approval of the Request for Release of Funds. This was for a Choice Neighborhoods project in the City of Seattle that combines public housing with neighborhood revitalization.

Nature of Requirement: The regulation at 24 CFR 58.22(a) prohibits commitment of funds or choice-limiting actions before HUD's approval of the environmental review. In this case a purchase and sales agreement was signed prior to the approval of the environmental review.

Granted By: Mark Johnston, Deputy Assistant Secretary for Special Needs.

Date Granted: June 28, 2013.

Reason Waived: The waiver was granted because the project furthers HUD's mission and advances program goals, the grantee unknowingly violated the regulation, and the project was found to have no unmitigated, adverse environmental impacts.

Contact: Kathryn Au, Office of Environment and Energy, Office of Community Planning and Development, Department of Housing and Urban Development, 451 7th Street SW., Room 7248, Washington, DC 20410, telephone 202-402-6340.

• Regulation: 24 CFR 84.32(c)(2).

Project/Activity: AIDS Alabama, a competitive Housing Opportunities for Persons With AIDS (HOPWA) grantee based in Birmingham, AL, requested a waiver of the HUD property disposition requirements for one manufactured home that met the HOPWA minimum use period requirements at 24 CFR 574.310(c)(1)(i) and that the grantee sought to sell. In 2012, AIDS Alabama received a waiver of the property disposition regulations stated above for eight manufactured homes. Pursuant to the previous waiver, AIDS Alabama sold seven of the eight manufactured homes. The waiver would allow AIDS Alabama one year to sell the remaining manufactured home and reinvest the real property proceeds back in to the Alabama Rural AIDS Project (ARAP) by supporting the master leasing program.

Nature of Requirement: The HUD property disposition requirement states: “The recipient may be directed to sell the property under guidelines provided by HUD and pay the Federal Government for that percentage of the current fair market value of the property attributable to the Federal participation in the project.”

Granted By: Mark Johnston, Deputy Assistant Secretary for Special Needs.

Date Granted: May 17, 2013.

Reason Waived: The physical condition of these manufactured homes deteriorated over time and the current cost of maintenance is prohibitive for the tenants and the organization. Moreover, the tenants realized expensive utility costs and the cost of maintenance exceeded funding for the homes. The manufactured home met the minimum use period and served HOPWA program purposes during the minimum use period. The master leasing project will continue to serve program participants in the same service area.

Contact: William Rudy, Acting Director of the Office of HIV/AIDS Housing, Office of Community Planning and Development, Department of Housing and Urban Development, 451 7th Street SW., Room 7212, Washington, DC 20410, telephone (202) 708-1934.

• Regulations: 24 CFR 92.500(d)(1)(C).

Project/Activity: The City of New Orleans, LA, requested a waiver of its March 31, 2013, expenditure deadline to provide additional time to facilitate its ongoing recovery from the devastation caused by Hurricanes Katrina, Rita and Gustav. The City is located within a declared disaster area pursuant to Title IV of the Robert T. Stafford Disaster Relief and Emergency Assistance Act.

Nature of Requirements: The City requested a waiver of 24 CFR 92.500(d)(1)(C) which requires that a participating jurisdiction expend its annual allocation of funds under the HOME Investment Partnerships (HOME) program within five years after HUD notifies a participating jurisdiction that HUD has executed the jurisdiction's HOME agreement.

Granted By: Mark Johnston, Deputy Assistant Secretary for Special Needs.

Date Granted: May 23, 2013.

Reasons Waived: The waiver was granted to ensure that needed funds would not be deobligated and that the City would have sufficient flexibility and time to continue implementing its housing recovery strategy.

Contact: Virginia Sardone, Director, Office of Affordable Housing, Office of Community Planning and Development, Department of Housing and Urban Development, 451 7th Street SW., Room 7164, Washington, DC 20410-7000, telephone (202) 708-2684.

• Regulations: 24 CFR 92.251(c) and 24 CFR 92.504(d).

Project/Activity: The following participating jurisdictions were granted a limited waiver of HOME property standards and on-site inspection requirements for participating in HUD's Physical Inspections Alignment Pilot Program. The participating jurisdictions are: the State of Ohio, the State of Minnesota, the State of Wisconsin, the State of Michigan, the State of Oregon, and the State of Washington.

Nature of Requirements: This waiver involved the requirement under 24 CFR 92.251(c) that HOME-assisted rental housing must meet HUD's Housing Quality Standards, when no State or local housing quality standards or code requirements apply, and the requirement under 24 CFR 92.504(d) that the participating jurisdiction must perform on-site inspections of HOME-assisted rental housing in accordance with the schedule (as stated in section 92.504(d)) in order to determine compliance with section 92.251.

Granted By: Mark Johnston, Deputy Assistant Secretary for Special Needs.

Date Granted: June 18, 2013.

Reasons Waived: The waiver was granted to reduce duplicative inspection for grantees participating in the Physical Inspection Alignment Pilot Program. HUD estimates that eliminating duplicative inspections may result in over 20,000 fewer property inspections per year.

Contact: Virginia Sardone, Director, Office of Affordable Housing, Office of Community Planning and Development, Department of Housing and Urban Development, 451 7th Street SW., Room 7164, Washington, DC 20410, telephone (202) 708-2684.

• Regulations: 24 CFR 92.503(b)(3) .

Project/Activity: The participating jurisdictions, City of Brownsville, TX and the City of Boulder, CO, requested waivers of 24 CFR 92.503(b)(3) to allow certain repaid funds to be deposited in the participating jurisdictions' HOME Investment Trust Fund local accounts for use in other eligible HOME projects.

Nature of Requirements: Section 92.503(b)(3) requires funds invested in housing that does not meet the affordable housing requirements to be repaid to the HOME Investment Trust Fund account from which the funds were originally disbursed.

Granted By: Mark Johnston, Deputy Assistant Secretary for Special Needs.

Date Granted: April—June, 2013.

Reasons Waived: The waivers were necessary to ensure that the required repayments would be immediately available to the participating jurisdictions for investment in eligible HOME projects, as required by section 219(c) of the Cranston-Gonzalez National Affordable Housing Act.

Contact: Virginia Sardone, Director, Office of Affordable Housing, Office of Community Planning and Development, Department of Housing and Urban Development, 451 7th Street SW., Room 7164, Washington, DC 20410, telephone (202) 708-2684.

• Regulation: 24 CFR 576.106(f) and 24 CFR 576.403(c).

Project/Activity: The City of New York, NY, requested a waiver of the Emergency Solutions Grants (ESG) requirement at 24 CFR 576.106(f) to delay rental assistance payments to property owners until program participants can show that they have paid their share of the rent on time and met other requirements. The City also requested a waiver of section 576.403(c) to allow the City to provide homelessness prevention assistance to program participants who want to stay in their units, even if those units do not meet the habitability standards.

Nature of Requirement: The regulation at § 576.106(f) states that the recipient or subrecipient must make timely payments to each owner in accordance with the rental assistance agreement that is required to be in place between the recipient or subrecipient and the property owner, and that the rental assistance agreement must contain the same payment due date and grace period as the program participant's lease. The regulation at § 576.403(c) states that the recipient or subrecipient cannot use ESG funds to help a program participant remain in or move into housing that does not meet the ESG minimum habitability standards for permanent housing.

Granted By: Mark Johnston, Deputy Assistant Secretary for Special Needs.

Date Granted: May 16, 2013.

Reason Waived: With respect to the timeliness of rental assistance payments, the City of New York sufficiently demonstrated that it implemented a unique program design, which results in the City regularly making rental assistance payments after the due date in the lease, but which is intended to encourage program participants to develop skills that will help them attain long-term housing stability. In the waiver, HUD stipulated that the recipient or subrecipient must continue to make timely payments to the property owner in accordance with the rental assistance agreement.

With respect to the habitability standards, HUD recognized that the City's housing market has unique characteristics, such as a very low vacancy rate in affordable housing, and that, in certain instances, the best way to help program participants avoid homelessness is to keep them in their housing until better housing can be located, or their existing housing can be brought up to code. Therefore, HUD granted a limited waiver of § 576.403(c) to allow the City to provide homelessness prevention assistance to program participants who want to stay in their units, even if the units do not meet the habitability standards, provided that the ESG assistance is limited to services under § 576.105(b); and the City works with the property owners to bring their units into compliance with the habitability standards or assists the program participants to move if the units are unsafe.

Contact: Ann M. Oliva, Director, Office of Special Needs Assistance Programs, Office of Community Planning and Development, Department of Housing and Urban Development, 451 7th Street SW., Room 7262, Washington, DC 20410, telephone (202) 708-4300.

• Regulation: Neighborhood Stabilization Program 3 (NSP3) Notice 75 FR 64333 (II.H.3.F) in accordance with Title XII of Division A under the heading Community Planning and Development: Community Development Fund of the American Recovery and Reinvestment Act of 2009.

Project/Activity: Detroit, MI requested a waiver of the 10 percent demolition cap under the Neighborhood Stabilization Program (NSP) which restricts grantees from spending more than 10 percent of total grant funds on demolition activities.

Nature of Requirement: Section II.H.3.F of the NSP3 Notice provides that a grantee may not use more than ten percent of its grant for demolition activities.

Granted By: Mark Johnston, Deputy Assistant Secretary for Special Needs.

Date Granted: May 23, 2013.

Reason Waived: The City of Detroit, MI requested a waiver to spend $7,672,948.50 or approximately 35 percent of its NSP3 allocation of $21,922,710 on demolition of blighted structures. The city provided statistical data evidencing high vacancy and abandonment rates due to significant population and job loss. The city explained that there are a high number of properties requiring immediate demolition and that it would target NSP3 funds to remove safety hazards and the destabilizing influence of the blighted properties.

Contact: Jessie Handforth Kome, Deputy Director, Office of Block Grant Assistance, Office of Community Planning and Development, Department of Housing and Urban Development, 451 7th Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 200.73(c).

Project/Activity: LULAC Amistad Properties, Sinton, Texas, Project Number: 115-11190.

Nature of Requirement: HUD's regulation at 24 CFR 200.73(c) requires that a site contains at least five rental dwelling units. FHA Handbook 4425.1, Chapter 3, Part 3-7, further defines this regulation by stating that scattered sites and non-contiguous sites may be added to equal at least five units if they meet the requirements outlined in the Handbook.

Granted By: Carol J. Galante, Assistant Secretary for Housing—Federal Housing Commissioner.

Date Granted: April 12, 2013.

Reason Waived: All of the properties can be managed as a group, have existing HAP contracts, have demonstrated marketability and are capable of being managed as a single real estate entity.

Contact: Theodore K. Toon, Director, Office of Multifamily Housing Development, Office of Housing, Department of Housing and Urban Development, 451 7th Street SW., Room 6134, Washington, DC 20410, telephone (202) 402-8386.

• Regulation: 24CFR 200.85(b).

Project/Activity: Crossroads, Pine Bluff, Arkansas Project Number: 082-35445.

Nature of Requirement: HUD's regulation at 24 CFR 200.85(b) requires that the mortgage contain “A covenant against repayments of a Commissioner approved inferior lien from mortgage proceeds other than surplus cash or residual receipts, except in the case of an inferior lien created pursuant to Section 223(d) of the Act, or a supplemental loan insured pursuant to Section 241 of the Act.”

Granted by: Carol J. Galante, Assistant Secretary for Housing-Federal Housing—Commissioner.

Date Granted: June 17, 2013.

Reason Waived: The Arkansas Development Finance Authority restrictions require repayment of the HOME loan by monthly principal and interest payments. The HOME loan and other subsidies were critical to the overall financing. The Little Rock Program Center determined that there are sufficient funds after expenses and debt service to repay the loan from the project's operating funds and agreed to the secondary subordinate financing.

Contact: Theodore K. Toon, Director, Office of Multifamily Housing Development, Office of Housing, Department of Housing and Urban Development, 451 7th Street SW., Room 6134, Washington, DC 20410, telephone (202) 402-8386.

• Regulation: 24 CFR 200.85(b).

Project/Activity: Auxora Arms, Little Rock, Arkansas, Project Number: 082-35442.

Nature of Requirement: Section 200.85(b) of HUD's regulations requires “A covenant against repayments of a Commissioner approved inferior lien from mortgage proceeds other than surplus cash or residual receipts, except in the case of an inferior lien created by an operating loss loan insured pursuant to Section 223(d) of the Act, or a supplemental loan insured pursuant to Section 241 of the Act.”

Granted by: Carol J. Galante, Assistant Secretary for Housing—Federal Housing Commissioner.

Date Granted: June 26, 2013.

Reason Waived: This same requested waiver was granted for the subject property on April 8, 2008, for the predecessor Section 221(d)(4) substantial rehabilitation transaction. The Program Center recommended approval to retain the original maturity date of the HOME loan which will be paid off prior to the maturity date of the new Section 223(a)(7) loan.

Contact: Theodore K. Toon, Director, Office of Multifamily Housing Development, Office of Housing, Department of Housing and Urban Development, 451 7th Street SW., Room 6134, Washington, DC 20410, telephone (202) 402-8386.

• Regulation: 24 CFR 200.926d(f)(1)(i) and (f)(2)(i).

Project/Activity: Effective for the boroughs of Juneau, Mantanuska-Susitna, Anchorage, Bethel, North Slope (Barrow), Fairbanks (North Star and Southeast) and the Kenai Peninsula where it is not feasible to procure water from conventional water supply systems.

Nature of Requirement: FHA's Minimum Property Standards (MPS) regulations governing new construction for single-family dwellings, provide that to be eligible for FHA insurance, each living unit within newly constructed single-family residential property should be capable of delivering a flow of five gallons per minute (gpm) over a four hour period in order to provide a continuing and sufficient supply of safe water under adequate pressure and appropriate quality for household use. Under these regulatory requirements, water holding tanks, cisterns and similar alternative water supply systems are not considered under FHA requirements as acceptable water supply systems.

Granted By: Carol J. Galante, Assistant Secretary for Housing—Federal Housing Commissioner.

Date Granted: June 18, 2013.

Reason Waived: The waiver of the regulations in § 200.926d(f)(1)(i) and (f)(2)(i) were determined necessary to enable FHA mortgage insurance for mortgage lenders extending mortgage financing to homebuyers for new construction single-family housing in the above referenced boroughs of Alaska, and consistent with the Department's mission in promoting affordable homeownership and waived the provisions for a period of one year.

Contact: Robert L. Frazier, Acting Director, Valuation Policy Division, Office of Single Family Housing, Office of Housing, Department of Housing and Urban Development, 451 7th Street SW., Room 9272, Washington, DC 20410, telephone (202) 402-5752.

• Regulation: 24 CFR 219.220(b).

Project/Activity: Broadwater Village Apartments, FHA Project Number 093-44019, Helena, Montana. The owner requested deferral of repayment of the Flexible Subsidy Operating Assistance Loan due to their inability to repay the loan in full upon maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project . . .” Either of these actions would typically terminate FHA involvement with the property, and the Flexible Subsidy Loan would be repaid, in whole, at that time.

Granted by: Carol J. Galante, Assistant Secretary for Housing—Federal Housing Commissioner.

Date Granted: May 3, 2013.

Reason Waived: The owner requested and was granted waiver of the requirement to defer repayment of the Flexible Subsidy Operating Assistance Loan because the project did not have sufficient funds to repay the loan. The owner was permitted to defer and re-amortize the loan over a 20-year period. A new Rental Use Agreement is to be recorded, extending the long-term affordability of the property through the term of the 20-year deferment period for the citizens of Helena, Montana.

Contact: Mark B. Van Kirk, Director, Office of Asset Management, Office of Housing, Department of Housing and Urban Development, 451 7th Street SW., Room 6160, Washington, DC 20410, telephone (202) 708-3730.

• Regulation: 24 CFR 219.220(b).

Project/Activity: Lilac Plaza Apartments, FHA Project Number 171-44801, Spokane, Washington. The owner requested to defer repayment of the Flexible Subsidy Operating Assistance Loan due to their inability to pay the loan in full upon maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project . . .” Either of these actions would typically terminate FHA involvement with the property, and the Flexible Subsidy Loan would be repaid, in whole, at that time.

Granted by: Carol J. Galante, Assistant Secretary for Housing—Federal Housing Commissioner.

Date Granted: May 3, 2013.

Reason Waived: Waiver of this regulation was granted since the owner demonstrated that deferral of repayment of the Flexible Subsidy Operating Assistance Loan would allow the project to achieve the long-term preservation of the project as an affordable housing resource for the elderly. Approval of this waiver would also allow the owner to re-amortize the loan over a 20-year period, the term of the new financing, and complete much-needed repairs at the project maintaining the project's financial and physical integrity.

Contact: Mark B. Van Kirk, Director, Office of Asset Management, Office of Housing, Department of Housing and Urban Development, 451 7th Street SW., Room 6160, Washington, DC 20410, telephone (202) 708-3730.

• Regulation: 24 CFR 219.220(b).

Project/Activity: Whatcoat Village Apartments, FHA Project Number 032-44005, Dover, Delaware. The owner requested deferral of repayment of the Flexible Subsidy Operating Assistance Loan due to their inability to pay the loan in full upon maturity.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project . . .” Either of these actions would typically terminate FHA involvement with the property, and the Flexible Subsidy Loan would be repaid, in whole, at that time.

Granted by: Carol J. Galante, Assistant Secretary for Housing—Federal Housing Commissioner.

Date Granted: May 30, 2013.

Reason Waived: This waiver was granted allowing the owner to defer repayment of the Flexible Subsidy Operating Assistance Loan upon the refinance of their loan. The refinance of the loan will in turn recapitalize the property, allowing for rehabilitation and ensuring its preservation as a decent, safe and sanitary affordable housing resource for the elderly and disabled citizens of Dover, Delaware for an additional 20 years.

Contact: Mark B. Van Kirk, Director, Office of Asset Management, Office of Housing, Department of Housing and Urban Development, 451 7th Street SW., Room 6160, Washington, DC 20410, telephone (202) 708-3730.

• Regulation: 24 CFR 219.220(b).

Project/Activity: Allen Hills Apartments, FHA Project Number 061-35530, Atlanta, Georgia. The owner requested deferral of repayment of the Flexible Subsidy Operating Assistance Loan due to their inability to pay the loan in full upon maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project . . .” Either of these actions would typically terminate FHA involvement with the property, and the Flexible Subsidy Loan would be repaid, in whole, at that time.

Granted by: Carol J. Galante, Assistant Secretary for Housing—Federal Housing Commissioner.

Date Granted: May 30, 2013.

Reason Waived: Granting the waiver would allow the owner to defer repayment of the Flexible Subsidy Operating Assistance Loan, refinance the loan and make needed repairs and improvement to the property. A new Rental Use Agreement is to be recorded for an additional 20 years, preserving the project as affordable housing for the citizens of Dover, Delaware.

Contact: Mark B. Van Kirk, Director, Office of Asset Management, Office of Housing, Department of Housing and Urban Development, 451 7th Street SW., Room 6160, Washington, DC 20410, telephone (202) 708-3730.

• Regulation: 24 CFR 232.505(a), 232.520, 232.605 and 232.620.

Project/Activity: Supplemental loans to finance purchase and installation of fire safety equipment in nursing homes.

Nature of Requirement: HUD's regulations at 232.505(a), 232.540(b), 232.605, 232.620 address the requirements and procedures for obtaining FHA insurance of loans for fire safety equipment.

Granted By: Carol J. Galante, Assistant Secretary for Housing—Federal Housing Commissioner.

Date Granted: April 11, 2013.

Reason Waived: These regulations, promulgated in 1974 and not yet updated, do not reflect current processing requirements insurance of loans for fire safety equipment, and there is an urgent need to install automatic fire sprinkler systems in nursing homes due to a new federal mandate.

Contact: Vance T. Morris, Special Assistant, Office of Healthcare Programs, Department of Housing and Urban Development, 451 7th Street SW., Room #2337, Washington, DC 20410-8000, telephone (202) 402-2419.

• Regulation: 24 CFR 232.7.

Project/Activity: Graceland at Garden Ridge is an assisted living/memory care facility that maintains 38 assisted living beds and eight memory care beds in 45 rooms. The project is located in Garden Ridge, Texas.

Nature of Requirement: HUD's regulation at 24 CFR 232.7 mandates in a board and care home or assisted living facility that not less than one full bathroom must be provided for every four residents. The regulation also provides that the bathroom cannot be accessed from a public corridor or area.

Granted By: Carol J. Galante, Assistant Secretary for Housing—Federal Housing Commissioner.

Date Granted: May 14, 2013.

Reason Waived: Graceland has concluded that the construction of an additional bathroom would pose a financial burden to the facility. Further, the construction of a new bathroom would remove common area and much utilized activity space from the residents. Graceland has advised that the existing bathing/shower rooms are designed to provide enough space for staff to safety assist the residents.

Contact: Vance T. Morris, Special Assistant, Office of Healthcare Programs, Department of Housing and Urban Development, 451 7th Street SW., Room #2337, Washington, DC 20410-8000, telephone (202) 402-2419.

• Regulation: 24 CFR 232.7.

Project/Activity: Springfield Skilled Care Center & the Lodges are a skilled nursing and board and care facility. The board and care facility has 99 beds for residents that will reside in 45 rooms.

Nature of Requirement: HUD's regulation at 24 CFR 232.7 mandates in a board and care home or assisted living facility that not less than one full bathroom must be provided for every four residents. The regulation also provides that the bathroom cannot be accessed from a public corridor or area.

Granted By: Carol J. Galante, Assistant Secretary for Housing—Federal Housing Commissioner.

Date Granted: June 12, 2013.

Reason Waived: The residents of Brewer need assistance and supervision while bathing. The bathing/shower rooms are specifically designed to provide enough space for staff to safety assist the residents.

Contact: Vance T. Morris, Special Assistant, Office of Healthcare Programs, Department of Housing and Urban Development, 451 7th Street SW., Room #2337, Washington, DC 20410-8000, telephone (202) 402-2419.

• Regulation: 24 CFR 232.7.

Project/Activity: Springfield Skilled Care Center & the Lodges are a skilled nursing and board and care facility. The board and care facility has 99 beds for residents that will reside in 45 rooms.

Nature of Requirement: The regulation mandates in a board and care home or assisted living facility that not less than one full bathroom must be provided for every four residents. Also, the bathroom cannot be accessed from a public corridor or area.

Granted By: Carol J. Galante, Assistant Secretary for Housing—Federal Housing Commissioner.

Date Granted: June 12, 2013.

Reason Waived: The residents of Brewer need assistance and supervision while bathing. The bathing/shower rooms are specifically designed to provide enough space for staff to safely assist the residents.

Contact: Vance T. Morris, Special Assistant, Office of Healthcare Programs, Department of Housing and Urban Development, 451 7th Street SW., Room #2337, Washington, DC 20410-8000, telephone (202) 402-2419.

III. Regulatory Waivers Granted By the Office of Public and Indian Housing

For further information about the following regulatory waivers, please see the name of the contact person that immediately follows the description of the waiver granted.

• Regulation: Notice PIH 2013-3: Public Housing and Housing Choice Voucher Programs—Temporary Compliance Assistance.

Project/Activity: PIH Notice 2013-3 was issued to establish temporary guidelines for public housing agencies (PHAs) in fulfilling certain public housing and housing choice voucher requirements during the current and upcoming fiscal year to alleviate some of the burden on already stressed PHA resources. The reduction of burden provided in this notice involved offering PHAs the option to comply with certain alternative requirements to existing regulations, and if they opted to do so the existing regulation would be waived.

Nature of Requirement: The alternative requirements to regulatory requirements that were offered under the notice were the following: The notice allows PHAs to use participants' actual past income to verify income, which would be a waiver of the requirement to project expected income in 24 CFR 5.609(a)(2). The notice allows households to self-certify as to having assets of less than $5,000, which would be a waiver of the requirement under 24 CFR 5.609(b)(3), 982.516(a)(2)(ii), and 960.259(c) for PHAs to verify assets. The notice allows a streamlined reexamination of income for elderly families and disabled families on fixed incomes, which would be a waiver of the requirement in 24 CFR 982.516 and 960.257 for PHAs to undertake the complete process for income verification and rent determination for families on fixed incomes. The notice allows PHAs to establish a payment standard of not more than 120 percent of the fair market rent without HUD approval as a reasonable accommodation, which would be a waiver of 24 CFR 982.503(c)(2)(B)(ii), which allows a PHA to establish a payment standard for the housing choice voucher program only but within limits currently permitted but designated for approval only by a HUD field office.

Granted By: Sandra B. Henriquez, Assistant Secretary for Public and Indian Housing.

Date Granted: January 22, 2013.

Reason Waived: The waivers and alternative requirements were granted because they would help facilitate the ability of PHAs to continue, without interruption and with minimal burden, the delivery of rental assistance to eligible families in their communities. Increased demand for housing assistance without corresponding increased resources strains the operations of PHAs and jeopardizes their ability to assist families at a time when families most need housing assistance.

Contact: Todd Thomas, Senior Program Specialist, Public Housing Management and Occupancy Division, Office of Public and Indian Housing, Department of Housing and Urban Development, 451 7th Street SW., Room 4210, Washington, DC 20410, telephone 202-402-5849.

• Regulation: 24 CFR 5.801(d)(1).

Project/Activity: Housing Authority of the City of Vallejo (VHA), (CA055), Vallejo, CA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 27, 2013.

Reason Waived: The VHA requested a waiver of the audit due date as a result of the State of California dissolving redevelopment agencies and creating successor agencies. In addition, the Assistant Finance Director position at VHA was vacant from October 2012 until March 21, 2013; and the Accounting Manager was absent since June 2012, due to a serious illness. As a result, the Independent Public Accountant (IPA) was unable to begin the audit field work until March 21, 2013. The VHA is also a component unit of the City, and the IPA must complete the Comprehensive Annual Financial Report for the City of Vallejo as a whole before the VHA's audit can be completed. However, the draft audit was entered into HUD's online system on April 2, 2013.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: Housing Authority of the City of Compton (HACC), (CA071), Compton, CA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 27, 2013.

Reason Waived: The HACC submitted that due to alleged fraud and misuse of city funds, which resulted in a forensic audit investigation, the audited financial submission was not completed by the due date. The HACC requested a waiver of the due date to allow time to acquire an auditing firm to complete analysis and revisions to the audited report, after the investigation is completed.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: Housing Authority of the City of Napa, (CA073), Napa, CA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 20, 2013.

Reason Waived: The NHA submitted that due to the State's dissolution of all redevelopment agencies, including the agency previously responsible for the city's financial statements, the audited financial submission was not completed by the due date. The NHA requested a waiver of the due date to allow time to complete analysis and revisions to the audit.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: Housing Authority of the City of Hawaiian Gardens (HGHA), (CA136), Hawaiian Gardens, CA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 20, 2013.

Reason Waived: The HGHA requested a waiver of the audit due date as a result of the State of California dissolving redevelopment agencies and creating successor agencies. In addition, the Finance Director and other key financial staff positions have had prolonged vacancies. As a result, the accounting process to close-out records and submit the audited financial documents to HUD was delayed. The HGHA requested a waiver of the due date is necessary to allow time to complete analysis and make required revisions.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: San Francisco Housing Authority, (CA001), San Francisco, CA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 27, 2013.

Reason Waived: The SFHA submitted that due to a HUD Office of Inspector General investigative review of certain procurement contracts, followed by the termination of the Executive Director, it would not be able to meet the June 30, 2013, deadline to submit its audited financial documents. SFHA requested a waiver of the due date to allow the newly hired auditor time to complete analysis and revisions to its financial audited records.

Contact: Judy Wojciechowski, Program Manager, NASS, Real Estate Assessment Center, Office of Public and Indian Housing, Department of Housing and Urban Development, 550 12th Street SW., Suite 100, Washington, DC 20410, telephone (202) 475-7907.

• Regulation: 24 CFR 902.20.

Project/Activity: St. John the Baptist Parish Housing Authority (LA095), Laplace, LA

Nature of Requirement: The objective of 24 CFR 902.20 is to determine whether a housing authority (HA) is meeting the standard of decent, safe, sanitary, and in good repair. In accordance with this regulation, HUD's Real Estate Assessment Center (REAC) provides for an independent physical inspection of a HA's property of properties that includes a statistically valid sample of the units.

Granted By: Sandra B. Henriquez, Assistant Secretary for Public and Indian Housing.

Date Granted: June 20, 2013.

Reason Waived: The SJBPHA requested a waiver due to severe property damage from Hurricane Isaac on August 29, 2012. The SJBPHA stated that the procurement process to repair the damaged units could not be completed by May 2013. SJBPHA stated that the restoration project for other vacant units included in the procurement process could be completed by November 2013.

Contact: Judy Wojciechowski, Program Manager, NASS, Real Estate Assessment Center, Office of Public and Indian Housing, Department of Housing and Urban Development, 550 12th Street SW., Suite 100, Washington, DC 20410, telephone (202) 475-7907.

• Regulation: 24 CFR 941.606(n)(10)(ii)(B).

Project/Activity: Chicago Housing Authority (CHA), Stateway Gardens HOPE VI Revitalization, Phase 2B, Chicago, IL.

Nature of Requirement: HUD's regulation at 24 CFR 941.606(n)(10)(ii)(B) requires that if a partner and/or owner entity (or any other entity with an identity of interest with such parties) wants to serve as the general contractor for a project or development, it may award itself the construction contract only if it can demonstrate to HUD's satisfaction that its bid is the lowest responsive bid submitted in response to a public request for bids.

Granted By: Sandra B. Henriquez, Assistant Secretary for Public and Indian Housing.

Date Granted: May 28, 2013.

Reason Waived: Office of Public Housing Investments (OPHI) reviewed the mixed-finance proposal and confirmed that the construction costs for this project are below the independent cost review prepared by Clausen Management Services (CMS) and submitted by CHA as part of the justifications for the waiver request. OPHI also performed a fee analysis that showed all of the construction fees were at or below HUD's Cost Control and Safe Harbor Standards (revised April 9, 2003). Therefore, it was determined that good cause existed to waive 24 CFR 941.606(n)(1)(ii)(B) so that Walsh, owned and controlled by Walsh Ventures Management 2B, a member of the development team for Phase 2B, may serve as the general contractor for Phase 2B.

Contact: Dominique Blom, Deputy Assistant Secretary for the Office of Public Housing Investments, Office of Public and Indian Housing, Department of Housing and Urban Development, 451 7th Street SW., Room 4134, Washington, DC 20140, telephone (202) 402-4181.

• Regulation: 24 CFR 982.503(d).

Project/Activity: Housing Authority of the County of Los Angeles (HACoLA), Los Angeles, CA.

Nature of Requirement: HUD's regulation at 24 CFR 982.503(d) states a PHA may request, and HUD may approve, establishment of payment standards lower than 90 percent of the fair market rent (FMR) for each bedroom size if less than 40 percent of participants in the voucher program have family shares that exceed 30 percent of their adjusted income.

Granted By: Sandra B. Henriquez, Assistant Secretary for Public and Indian Housing.

Date Granted: May 31, 2013.

Reason Waived: Sixty-one percent of participant families were paying more than 30 percent of the adjusted income. However, the Antelope Valley area had gross rents significantly lower than 90 percent of the FMR for the area. It was determined that data analysis supported a payment standard of 80 percent of the area-wide FMRs for both Lancaster and Palmdale, CA.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: West Valley City Housing Authority (WVCHA), West Valley City, UT.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: April 4, 2013.

Reason Waived: The participant, who has members of the household with disabilities, required an exception payment standard to remain in his unit. To provide this reasonable accommodation so the family could remain in its unit and pay no more than 40 percent of its adjusted income toward the family share, the WVCHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: May 1, 2013.

Reason Waived: Ten homeless veterans required an exception payment standard to move to a unit in a building that met their health needs. To provide this reasonable accommodation so these clients could be assisted in this building and pay no more than 40 percent of their adjusted income toward the family share, the SFHA was allowed to approve exception payment standards that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Center for People With Disabilities (CPWD), Boulder, CO.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: May 13, 2013.

Reason Waived: The participant, who is a person with disabilities, required an exception payment standard to remain in her unit. To provide this reasonable accommodation so the client could remain in her unit and pay no more than 40 percent of her adjusted income toward the family share, the CPWD was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Crawford County Housing Authority, (CCHA) Crawford County, WI.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 1, 2013.

Reason Waived: The applicant, who is a person with disabilities, required an exception payment standard to move to a unit that met her needs. To provide this reasonable accommodation so that the client could move to a new unit and pay no more than 40 percent of her adjusted income toward the family share, the CCHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Belmont Housing Authority, (BHA), Belmont, MA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 7, 2013.

Reason Waived: The participant, who is a person with disabilities, required an exception payment standard to move to another unit in the same building that met his needs. To provide this reasonable accommodation so that the client could move to a new unit and pay no more than 40 percent of his adjusted income toward the family share, the BHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 983.55(b).

Project/Activity: Housing Authority of Baltimore City (HABC), Baltimore, MD.

Nature of Requirement: HUD's regulation at 24 CFR 983.55 states that the PHA may not enter into an Agreement to Enter into a Housing Assistance Payment contract (AHAP) or housing assistance payments (HAP) contract for the project-based voucher (PBV) program until HUD or an independent entity approved by HUD has conducted any required subsidy layering review (SLR) and determined that the PBV assistance is in accordance with HUD's SLR requirements.

Granted By: Sandra B. Henriquez, Assistant Secretary for Public and Indian Housing.

Date Granted: May 28, 2013.

Reason Waived: This regulation was waived since construction on off-site work for the project had to be completed by a date certain that corresponded with the beginning of the following school year. No construction was permitted on the apartment units until a SLR was completed.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 983.253(b) and 983.259(a)(1) and (2) and (c).

Project/Activity: Massachusetts Department of Housing and Community Development (MDHCD), Boston, MA.

Nature of Requirement: HUD's regulations at: 24 CFR 983.253(b) states that the project-based voucher (PBV) contract unit leased to each family must be appropriate for the size of the family under the public housing agency's subsidy standards; and at 24 CFR 983.259(a)(1) and (2) and (c) state that if the PHA determines that the family is occupying a wrong-sized unit, the PHA must promptly notify the family the owner of this determination. After an offer of comparable rental assistance, the PHA must terminate the housing assistance payments for the wrong-sized unit.

Granted By: Sandra B. Henriquez, Assistant Secretary for Public and Indian Housing.

Date Granted: April 21, 2013.

Reason Waived: This project is participating in the Rental Assistance Demonstration program. This waiver was granted to MDHCD since there were no other one-bedroom units in the project and requiring the families to move would present a significant hardship. The owner was required to accept the one-bedroom rent for the over-housed families.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 983.253(b) and 983.259(a)(1) and (2) and (c).

Project/Activity: Brockton Housing Authority (BHA), Brockton, MA.

Nature of Requirement: HUD's regulations at: 24 CFR 983.253(b) states that the project-based voucher (PBV) contract unit leased to each family must be appropriate for the size of the family under the public housing agency's subsidy standards; and at 24 CFR 983.259(a)(1) and (2) and (c) state that if the PHA determines that the family is occupying a wrong-sized unit, the PHA must promptly notify the family the owner of this determination. After an offer of comparable rental assistance, the PHA must terminate the housing assistance payments for the wrong-sized unit.

Granted By: Sandra B. Henriquez, Assistant Secretary for Public and Indian Housing.

Date Granted: May 28, 2013.

Reason Waived: This project is participating in the Rental Assistance Demonstration program. This waiver was granted since there were no other one-bedroom units in the project and requiring the families to move would present a significant hardship. The owner was required to accept the one-bedroom rent for the over-housed families.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 985.101(a).

Project/Activity: Owatonna Housing and Redevelopment Authority (OHRA), Owatonna, MN.

Nature of Requirement: HUD's regulation at 24 CFR 985.101(a) states a PHA must submit the HUD-required Section Eight Management Assessment Program (SEMAP) certification form within 60 calendar days after the end of its fiscal year.

Granted By: Sandra B. Henriquez, Assistant Secretary for Public and Indian Housing.

Date Granted: April 23, 2013.

Reason Waived: This waiver was granted since OHRA changed its fiscal year and there was miscommunication in regard to SEMAP requirements. OHRA was permitted to submit its SEMAP certification after the due date.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: May 1, 2013.

Reason Waived: Ten homeless veterans required an exception payment standard to move to a unit in a building that met their health needs. To provide this reasonable accommodation so these clients could be assisted in this building and pay no more than 40 percent of their adjusted income toward the family share, the SFHA was allowed to approve exception payment standards that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Center for People with Disabilities (CPWD), Boulder, CO.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing

Date Granted: May 13, 2013.

Reason Waived: The participant, who is a person with disabilities, required an exception payment standard to remain in her unit. To provide this reasonable accommodation so the client could remain in her unit and pay no more than 40 percent of her adjusted income toward the family share, the CPWD was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Crawford County Housing Authority, (CCHA) Crawford County, WI.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 1, 2013.

Reason Waived: The applicant, who is a person with disabilities, required an exception payment standard to move to a unit that met her needs. To provide this reasonable accommodation so that the client could move to a new unit and pay no more than 40 percent of her adjusted income toward the family share, the CCHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Belmont Housing Authority, (BHA), Belmont, MA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 7, 2013.

Reason Waived: The participant, who is a person with disabilities, required an exception payment standard to move to another unit in the same building that met his needs. To provide this reasonable accommodation so that the client could move to a new unit and pay no more than 40 percent of his adjusted income toward the family share, the BHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

• Regulation: 24 CFR 983.55(b).

Project/Activity: Housing Authority of Baltimore City (HABC), Baltimore, MD.

Nature of Requirement: HUD's regulation at 24 CFR 983.55 states that the PHA may not enter into an Agreement to Enter into a Housing Assistance Payment contract (AHAP) or housing assistance payments (HAP) contract for the project-based voucher (PBV) program until HUD or an independent entity approved by HUD has conducted any required subsidy layering review (SLR) and determined that the PBV assistance is in accordance with HUD's SLR requirements.

Granted By: Sandra B. Henriquez, Assistant Secretary for Public and Indian Housing.

Date Granted: May 28, 2013.

Reason Waived: This regulation was waived since construction on off-site work for the project had to be completed by a date certain that corresponded with the beginning of the following school year. No construction was permitted on the apartment units until a SLR was completed.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 983.253(b) and 983.259(a)(1) and (2) and (c).

Project/Activity: Massachusetts Department of Housing and Community Development (MDHCD), Boston, MA.

Nature of Requirement: HUD's regulations at: 24 CFR 983.253(b) states that the project-based voucher (PBV) contract unit leased to each family must be appropriate for the size of the family under the public housing agency's subsidy standards; and at 24 CFR 983.259(a)(1) and (2) and (c) state that if the PHA determines that the family is occupying a wrong-sized unit, the PHA must promptly notify the family the owner of this determination. After an offer of comparable rental assistance, the PHA must terminate the housing assistance payments for the wrong-sized unit.

Granted By: Sandra B. Henriquez, Assistant Secretary for Public and Indian Housing.

Date Granted: April 21, 2013.

Reason Waived: This project is participating in the Rental Assistance Demonstration program. This waiver was granted to MDHCD since there were no other one-bedroom units in the project and requiring the families to move would present a significant hardship. The owner was required to accept the one-bedroom rent for the over-housed families.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 983.253(b) and 983.259(a)(1) and (2) and (c).

Project/Activity: Brockton Housing Authority (BHA), Brockton, MA.

Nature of Requirement: HUD's regulations at: 24 CFR 983.253(b) states that the project-based voucher (PBV) contract unit leased to each family must be appropriate for the size of the family under the public housing agency's subsidy standards; and at 24 CFR 983.259(a)(1) and (2) and (c) state that if the PHA determines that the family is occupying a wrong-sized unit, the PHA must promptly notify the family the owner of this determination. After an offer of comparable rental assistance, the PHA must terminate the housing assistance payments for the wrong-sized unit.

Granted By: Sandra B. Henriquez, Assistant Secretary for Public and Indian Housing.

Date Granted: May 28, 2013.

Reason Waived: This project is participating in the Rental Assistance Demonstration program. This waiver was granted since there were no other one-bedroom units in the project and requiring the families to move would present a significant hardship. The owner was required to accept the one-bedroom rent for the over-housed families.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 985.101(a).

Project/Activity: Owatonna Housing and Redevelopment Authority (OHRA), Owatonna, MN.

Nature of Requirement: HUD's regulation at 24 CFR 985.101(a) states a PHA must submit the HUD-required Section Eight Management Assessment Program (SEMAP) certification form within 60 calendar days after the end of its fiscal year.

Granted By: Sandra B. Henriquez, Assistant Secretary for Public and Indian Housing.

Date Granted: April 23, 2013.

Reason Waived: This waiver was granted since OHRA changed its fiscal year and there was miscommunication in regard to SEMAP requirements. OHRA was permitted to submit its SEMAP certification after the due date.

Contact: Laure Rawson, Director, Housing Voucher Management and Operations Division, Office of Public Housing and Voucher Programs, Office of Public and Indian Housing, Department of Housing and Urban Development, 451 7th Street SW., Room 4210, Washington, DC 20410, telephone (202) 708-0477.

[FR Doc. 2013-22459 Filed 9-13-13; 8:45 am]

BILLING CODE 4210-67-P